DEPARTMENT OF TRANSPORTATION

National Highway Traffic Safety Administration

49 CFR Part 572

Anthropomorphic Test Devices

CFR Correction

In Title 49 of the Code of Federal Regulations, Parts 572 to 999, revised as of October 1, 2014, on page 160, in § 572.198, reinstate paragraph (b)(10) to read as follows:

§ 572.198 Pelvis acetabulum.

* * * * *

(b) * * *

(10) The dummy's pelvis is impacted at the acetabulum at 6.7 ± 0.1 m/s.

* * * * *

[FR Doc. 2015-09488 Filed 4-22-15; 8:45 am]

BILLING CODE 1505-01-D